DEPARTMENT OF JUSTICE

Office of Justice Program

Agency Information Collection Activities: Proposed Collection; Comments Requested

ACTION: 30-day notice of information collection under review: reinstatement, without change, of a previously approved collection for which approval has expired; COPS Universal Hiring Program (UHP) and COPS in Schools (CIS) Grant Applications.

The Department of Justice (DOJ), Office of Office of Community Oriented Policing Services has submitted the following information collection request to the Office of Management and Budget (OMB) for review and approval in accordance with the Paperwork Reduction Act of 1995. The proposed information collection is published to obtain comments from the public and affected agencies. This proposed information collection was previously published in theFederal Register Volume 67, Number 219, page 68885 on November 13, 2002, allowing for a 60 day comment period.

The purpose of this notice is to allow for an additional 30 days for public comment until April 7, 2003. This process is conducted in accordance with 5 CFR 1320.10.

Written comments and/or suggestions regarding the items contained in this notice, especially the estimated public burden and associated response time, should be directed to The Office of Management and Budget, Office of Information and Regulatory Affairs, Attention Department of Justice desk Officer, Washington, DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Reinstatement, without change, of a previously approved collection for which approval has expired.

(2) The title of the form/collection: Universal Hiring Program and COPS in Schools Grant Applications.

(3) The agency form number, if any, and the applicable component of the Department sponsoring the collection: Form number: None. Sponsoring component: Office of Community Oriented Policing Services, U.S. Department of Justice.

(4) Affected public who will be asked or required to respond, as well as a brief abstract: Primary: State, local and tribal governments. Other: none. The COPS Office requests OMB approval of a reinstatement, without change, of a previously approved collection for which approval has expired. It will continue to be used by state, local and tribal jurisdictions to apply for federal funding which will be used to increase the number of sworn law enforcement positions in their law enforcement agencies. These grants are meant to enhance law enforcement infrastructures and community policing efforts in both local communities (Universal Hiring Program) and local schools (COPS in Schools).

(5) An estimate of the total number of respondents and the amount of time estimated for an average respondent to respond: There are an estimated 3,500 respondents (or grantees): 2,000 respondents for the UHP, and 1,500 respondents for the CIS. The estimated amount of time required for the average respondent is 8 hours.

(6) An estimate of the total public burden (in hours) associated with the collection: There are 31,500 estimated burden hours associated with this collection: 18,000 annual burden hours for UHP, and 13,500 burden hours for CIS.

If additional information is required contact: Mrs. Brenda E. Dyer, Deputy Clearance Officer, United States Department of Justice, Information Management and Security Staff, Justice Management Division, Suite 1600, Patrick Henry Building, 601 D Street NW., Washington, DC 20530.

Dated: February 27, 2003.
Brenda E. Dyer,
Department Deputy Clearance Officer, United States Department of Justice.

[FR Doc. 03-5522 Filed 3-6-03; 8:45 am]

BILLING CODE 4410-18-M